DEPARTMENT OF TRANSPORTATION

Maritime Administration

[Docket No. MARAD-2000-6790]

Information Collection Available for Public Comments and Recommendations

ACTION: Notice and request for comments.

SUMMARY: In accordance with the Paperwork Reduction Act of 1995, this notice announces the Maritime Administration's (MARAD) intentions to request approval for three years of an existing information collection entitled “EUSC/Parent Company.”

DATES: Comments should be submitted on or before March 20, 2000.

FOR FURTHER INFORMATION CONTACT: Melvin Geller, Office of National Security Plans, Maritime Administration, 400 Seventh Street, SW, Room P1-1303, Washington, D.C. 20590, telephone number—202-366-5910. Copies of this collection can also be obtained from that office.

SUPPLEMENTARY INFORMATION: Title of Collection: EUSC/Parent Company.

Type of Request: Approval of an existing information collection.

OMB Control Number: 2133-0511.

Form Number: None.

Expiration Date of Approval: Three years from the date of approval.

Summary of Collection of Information: The collection of information consists of an inventory of foreign register vessels owned by Americans. Specifically, the collection consists of responses from vessel owners verifying or correcting vessel ownership data and characteristics found in commercial publications. The information obtained could be vital in a national or international emergency, and is essential to the logistical support planning operations conducted by MARAD officials.

Need and Use of the Information: The information obtained will be used for contingency planning for sealift requirements primarily as a source of ships to move essential oil and bulk cargoes in support of the national economy.

Description of Respondents: Foreign register American vessel owners.

Annual Responses: 92 responses.

Annual Burden: 46 hours.

Comments: Comments should refer to the docket number that appears at the top of this document. Written comments may be submitted to the Docket Clerk, U.S. DOT Dockets, Room PL-401, 400 Seventh Street, SW, Washington, DC 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m. et Monday through Friday, except Federal Holidays. An electronic version of this document is available on the World Wide Web at http://dms.dot.gov.

Dated: January 13, 2000.
By Order of the Maritime Administrator.
Joel C. Richard,
Secretary.

[FR Doc. 00-1287 Filed 1-19-00; 8:45 am]

BILLIING CODE 4910-81-P